DEPARTMENT OF COMMERCE

National Oceanic and Atmospheric Administration

[I.D. 010407D]

Marine Mammals; File No. 775-1875

AGENCY: National Marine Fisheries Service (NMFS), National Oceanic and Atmospheric Administration (NOAA), Commerce.

ACTION: Notice; receipt of application.

SUMMARY: Notice is hereby given that the Northeast Fisheries Science Center (NEFSC), National Marine Fisheries Service (Dr. Richard Merrick, Principal Investigator), 166 Water Street, Woods Hole, MA 02543, has applied in due form for a permit to conduct scientific research on and import/export specimens collected from marine mammals.

DATES: Written, telefaxed, or e-mail comments must be received on or before February 9, 2007.

ADDRESSES: The application and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 775-1875.

FOR FURTHER INFORMATION CONTACT: Brandy Hutnak or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The NEFSC seeks permission to conduct research on seven species of baleen whales, twenty-five species/stocks of odontocetes, and four species of pinnipeds over a period of five years. This application includes the following endangered species: sperm whale (Physeter macrocephalus), sei whale (Balaenoptera borealis), blue whale (B. musculus), fin whale (B. physalus), humpback whale (Megaptera novaeangliae), and right whale (Eubalaena glacialis). The principal purpose of the research is estimation of distribution, abundance, and determination of stock structure in supporting NOAA's mandates under both the MMPA and ESA. Types of take include Level B harassment during vessel and aircraft line transect and photo-identification surveys, biopsy sampling, instrument attachment (suction-cup tags on cetaceans), and pinniped capture/tag/release. For cetaceans, the proposed research would be conducted on all age classes, except neonates. The pinniped research would be conducted on all ages, including pups. The proposed study area for the permit includes waters within or proximal to the US Exclusive Economic Zone from Florida to Maine. Permission is also sought to import and export specimens (including soft and hard tissue, blood, extracted DNA, and whole dead animals or parts thereof) to/from any country.

Concurrent with the publication of this notice in the Federal Register, NMFS is forwarding copies of this application to the Marine Mammal Commission and its Committee of Scientific Advisors.

Dated: January 5, 2007.
Tammy C. Adams,
Acting Chief, Permits, Conservation and Education Division, Office of Protected Resources, National Marine Fisheries Service.

[FR Doc. E7-203 Filed 1-9-07; 8:45 am]

BILLING CODE 3510-22-S